DEPARTMENT OF TRANSPORTATION

Federal Aviation Administration

14 CFR Parts 21, 61, 65, 77, 107, 109, 121, 135, 145, and 154

[Docket Nos. 23781, 25642, 26305, 27699, and FAA-2001-11172]

RIN 2120-AI02

Withdrawal of Proposed Rules: Miscellaneous Amendments; Improved Water Survival Equipment; Objects Affecting Navigable Airspace; Type Certificates for Some Surplus Aircraft of the Armed Forces; Procedures for Reimbursement of Airports, On-Airport Parking Lot and Vendors of On-Airfield Direct Services to Air Carriers for Security Mandates

Correction

In proposed rule document 03-18592 beginning on page 43885 in the issue of Thursday, July 24, 2003 make the following corrections:

1. On page 43885, in the third column, in the second full paragraph, in the 14th line, “proposals” should read “proposal”.

2. On the same page, in the same column, under the heading Type Certificates for Some Surplus Aircraft of the Armed Forces, RIN 2120-AE41, in the eighth line, “Forces,” should read “Forces.”.

3. On page 43886, in the first column, in the first paragraph, in the eighth line, “safety perspective” should read “safety perspective.”.

4. On the same page, in the same column, in the same paragraph, in the same line, “also ” should read “Also ”.

5. On the same page, in the second column, in the last paragraph, in the last line, “ have been appropriated” should read “have not been appropriated”.

[FR Doc. C3-18592 Filed 8-4-03; 8:45 am]

BILLING CODE 1505-01-D